DEPARTMENT OF COMMERCE

National Oceanic and Atmospheric Administration

[RTID 0648-XD205]

Pacific Fishery Management Council; Public Meeting; Correction

AGENCY: National Marine Fisheries Service (NMFS), National Oceanic and Atmospheric Administration (NOAA), Commerce.

ACTION: Notice of correction of public meeting.

SUMMARY: The Pacific Fishery Management Council (Pacific Council, Council) will convene webinar meetings of its Groundfish Advisory Subpanel (GAP), Groundfish Management Team (GMT), and Marine Planning Committee (MPC) to discuss items on the Pacific Council's September Council meeting agenda as detailed in the SUPPLEMENTARY INFORMATION below. These meetings are open to the public.

DATES: The GAP's webinar meeting, including a joint session with the MPC, to discuss the Council's September 2023 meeting agenda will be held on Friday, September 1, 2023, from 8:30 a.m. to 3:30 p.m. Pacific Time.

The GMT's webinar meeting to discuss the Council's September 2023 meeting agenda will be held on Friday, September 1, 2023, from 12:30 p.m. to 4:30 p.m. Pacific Time.

ADDRESSES: These meetings will be held online. Specific meeting information, including directions on how to join the meeting and system requirements, will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Todd Phillips, Staff Officer, Pacific Council; todd.phillips@noaa.gov, telephone: (503) 820-2426.

SUPPLEMENTARY INFORMATION: The original notice published in the Federal Register on August 1, 2023 (88 FR 50113). This notice changes the time of the GAP meeting which is now a joint meeting with the MPC and agenda of the meetings.

The primary purpose of the GAP, MPC, and GMT webinar meetings is to prepare for the Pacific Council's September 2023 meeting agenda items. The GAP, MPC, and GMT will discuss items related to the advisory body's particular management items and administrative matters on the Pacific Council's agenda, including the recently announced draft Wind Energy Areas off the Oregon Coast. The GAP, MPC, and GMT may also address other assignments as directed by the Pacific Council. No management actions will be decided by the GAP, MPC, and GMT. The advisory body recommendations will be considered by the Council at their September Council meeting. A detailed agenda for each of the GAP, MPC, and GMT webinars will be available on the Pacific Council's website prior to the meeting.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov); (503) 820-2412) at least 10 days prior to the meeting date.

(Authority: 16 U.S.C. 1801 et seq.)

Dated: August 23, 2023.
Rey Israel Marquez,
Acting Deputy Director, Office of Sustainable Fisheries, National Marine Fisheries Service.

[FR Doc. 2023-18557 Filed 8-28-23; 8:45 am]

BILLING CODE 3510-22-P